DEPARTMENT OF COMMERCE

International Trade Administration

[A-428-803]

Industrial Nitrocellulose from Germany: Notice of Rescission of Antidumping Duty Administrative Review

AGENCY: Import Administration, International Trade Administration, Department of Commerce.

ACTION: Notice of Rescission of Antidumping Duty Administrative Review.

EFFECTIVE DATE: October 30, 2002

FOR FURTHER INFORMATION CONTACT: Ron Trentham or Tom Futtner, Group II, Office 4, Office of AD/CVD Enforcement, Import Administration, International Trade Administration, U.S. Department of Commerce, 14th Street and Constitution Avenue, N.W., Washington, DC 20230; telephone (202) 482-6320 or 482-3814, respectively.

SUPPLEMENTARY INFORMATION:

Applicable Statute and Regulations

Unless otherwise indicated, all citations to the statute are references to the provisions effective January 1, 1995, the effective date of the amendments to the Tariff Act of 1930 (the Act) by the Uruguay Round Agreements Act. In addition, unless otherwise indicated, all citations to the Department's regulations are to the regulations as codified at 19 CFR Part 351 (2002).

Background

On July 1, 2002, the Department of Commerce (the Department) published a notice of opportunity to request an administrative review of the antidumping duty order on industrial nitrocellulose (INC) from Germany (67 FR 44172).

On August 27, 2002, pursuant to a request made by Wolff Walstrode AG (Wolff), a producer and exporter of INC, the Department initiated an administrative review of the antidumping duty order on INC from Germany. On October 16, 2002, Wolff withdrew its request for an administrative review of INC from Germany.

Rescission of Review

Section 351.213(d)(1) of the Department's regulations provides that a party that requests an administrative review may withdraw the request within 90 days after the date of publication of the notice of initiation of the requested administrative review. The Department is rescinding the administrative review of the order on INC from Germany for the period July 1, 2001 through June 30, 2002, because the requesting party has withdrawn its request for this administrative review within the 90-day time limit, and no other interested parties have requested a review of INC from Germany for this time period.

This notice is in accordance with section 777(i)(1) of the Act and 19 CFR 251.213(d)(4).

Dated: October 24, 2002.
Bernard T. Carreau,
Deputy Assistant Secretary for Import Administration.

[FR Doc. 02-27628 Filed 10-29-02; 8:45 am]

BILLING CODE 3510-DS-S